DEPARTMENT OF THE INTERIOR

Bureau of Land Management

[LLORS05000.L63100000.HD0000.16XL1116AF HAG 16-0118]

Notice of Emergency Temporary Closure of Public Lands in Benton County, Oregon

AGENCY: Bureau of Land Management, Department of the Interior.

ACTION: Notice of emergency temporary closure.

SUMMARY: Notice is hereby given that an emergency closure is in effect on public lands administered by the Marys Peak Field Office, Bureau of Land Management (BLM), to provide for public health and safety during operations of the Fall-Cole Timber Sale.

DATES: The Emergency Temporary Closure took effect on 12:01 a.m. Monday, May 1, 2016, and lasts through 11:59 p.m. Friday, October 31, 2017.

FOR FURTHER INFORMATION CONTACT: Field Manager Paul Tigan, Marys Peak Field Office, BLM Salem District Office, 1717 Fabry Road, Salem, OR 97306, telephone 503-315-5968, email: pdtigan@blm.gov. Persons who use a telecommunications device for the deaf (TDD) may call the Federal Relay Service at 1-800-877-8339 to contact the above individual during normal business hours. The Service is available 24 hours a day, 7 days a week, to leave a message or question for the above individual. You will receive a reply during normal business hours.

SUPPLEMENTARY INFORMATION: This Emergency Temporary Closure affects public lands near the Alsea Falls Recreation Area, Fall Creek Trail System, in the Marys Peak Field Office, Benton County, Oregon. The closure is necessary to ensure public safety while logging and road renovation and reconstruction is taking place.

The public lands affected by this closure are described as follows:

Willamette Meridian, Oregon

T. 14 S., R. 7 W.,

Sec. 25, All;

Sec. 26, S½N½, S½;

Sec. 27, All;

Sec. 34, All.

The area described contains approximately 2,400 acres. The roads and trails subject to the closure are: the 14-7-25 road, the 14-7-27 road, the Upper Whistlepunk Trail, and the Lower Whistlepunk Trail. Detour routes will be provided for safe access to the portions of the Fall Creek Trail System not included in this Emergency Temporary Closure.

The Emergency Temporary Closure is necessary to ensure public safety on lands included and adjacent to the Fall-Cole Timber Sale logging operation.

The BLM will post closure signs at roads and trails leading into this area. This closure order will be posted at the Fall Creek Trailhead Kiosk, the Alsea Falls Campground, Alsea Falls Trailhead and Day Use Area Kiosks. The closure notice and map of the affected area will be posted at the BLM Salem District Office, 1717 Fabry Road, Salem, Oregon, 97306, and the BLM Salem District Web site: http://www.blm.gov/or/districts/salem/index.php.

The closure order is issued under the authority of 43 CFR 8364.1, which allows the BLM to establish closures for the protection of persons; property; and public lands and resources. Violation of any of the terms, conditions, or restrictions contained within this closure order may subject the violator to citation or arrest with a penalty or fine or imprisonment or both as specified by law.

Closure Restrictions: The following acts are prohibited during the Emergency Temporary Closure of the Fall-Cole Timber Sale Area:

1. Being present on or walking, hiking, bicycling, or driving on any road or trail within the closed area.

2. Includes all public use, including but not limited to, bicycle, pedestrian, and motorized vehicles.

Exceptions: This closure is in effect every weekday (Monday-Friday, holidays included) for the duration of the closure. The roads and trails will be open to foot and bicycle traffic on Saturdays and Sundays. Closure restrictions do not apply to BLM personnel, emergency, or law enforcement personnel in the performance of their official duties.

Penalties: Any person who violates this closure may be tried before a United States magistrate and fined in accordance with 18 U.S.C. 3571, imprisoned no more than 12 months under 43 U.S.C. 1733(a) and 43 CFR 8360.0-7, or both. In accordance with 43 CFR 8365.1-7, State or local officials may also impose penalties for violations of Oregon law.

Paul Tigan,
Field Manager, Marys Peak Resource Area.

[FR Doc. 2016-27168 Filed 11-9-16; 8:45 am]

BILLING CODE 4310-33-P